DEPARTMENT OF COMMERCE

International Trade Administration

District Export Council Nomination Opportunity

AGENCY: International Trade Administration, Department of Commerce.

ACTION: Notice of opportunity for appointment to serve as a district export council member.

SUMMARY: The U.S. Department of Commerce is currently seeking nominations of individuals for consideration for appointment by the Secretary of Commerce to serve as a member of one of the sixty District Export Councils (DECs) nationwide. The DECs are closely affiliated with the U.S. Export Assistance Centers (USEACs) of the U.S. and Foreign Commercial Service (Commercial Service). DECs combine the energies of more than 1,500 exporters and export service providers to promote U.S. exports. DEC members volunteer at their own expense.

DATES: Nominations for individuals to a DEC must be received by the local USEAC Director by close of business local time on July 15, 2009.

FOR FURTHER INFORMATION CONTACT: Please contact the Director of your local USEAC for more information on DECs and the nomination process. You may identify your local USEAC by searching your Zip Code online at: http://www.buyusa.gov/home/export.html. For general program information, contact Dan Keenaghan, National District Export Council Program Manager, U.S. and Foreign Commercial Service, tel. (202) 482-1836.

SUPPLEMENTARY INFORMATION: DECs sponsor and participate in numerous trade promotion activities, as well as supply specialized expertise to small and medium-sized businesses that are interested in exporting.

Selection Process: 30 positions are held on each of the 60 DECs across the country. Approximately half of the positions are open on each DEC for the four-year term from January 1, 2010 to December 31, 2013. DEC members serve at the pleasure of the Secretary. Nominations are received by the local U.S. Export Assistance Center Director, and recommendations are made to the Secretary in consultation with the local DEC Chairperson. After completion of the vetting process, nominees are selected for appointment to a DEC.

Membership Criteria: The USEAC Directors are interested in nominating highly-motivated people. Appointment is based upon an individual's international trade leadership in the local community, ability to influence the local environment for exporting, knowledge of day-to-day international operations, interest in export development, and willingness and ability to devote time to council activities. Members include exporters, export service providers and others whose profession supports U.S. export promotion efforts. The Department strives to have DEC membership reflect the diversity of the local business community, including encompassing a broad range of businesses. DEC member appointments are made without regard to political affiliation.

Authority: 15 U.S.C. 1501 et seq., 15 U.S.C. 4721

Dated: May 26, 2009.
Patricia M. Sefcik,
Acting Deputy Assistant Secretary for Domestic Operations, U.S. and Foreign Commercial Service.

[FR Doc. E9-12810 Filed 6-1-09; 8:45 am]

BILLING CODE 3510-DS-P